COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds to the Procurement List commodities and services to be furnished by nonprofit agencies employing persons who are blind or have other severe disabilities, and deletes from the Procurement List commodities previously furnished by such agencies.

EFFECTIVE DATE: February 25, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: On October 5, November 9, November 16, November 23 and November 30, 2001, the Committee for Purchase From People Who Are Blind or Severely Disabled published notices (66 FR 51005, 56638, 57703, 58712 and 59778) of proposed additions to and deletions from the Procurement List:

The following comments pertain to Brush, Tooth Brush Style: Comments were received from the current contractor for this brush. The contractor indicated that it has been providing the brush to the Government for over thirty years. Government sales of the brush are a large minority of the company's total sales of the brush, allowing for economies of scale in purchasing brush components which could be lost if the brush were added to the Procurement List. While Government sales of the brush do not represent a large percentage of the company's total sales, the contractor stated that losing the Government contract for the brush would exacerbate the losses the company has suffered in the past year because of the economy and the company's debt burden, resulting in severe adverse impact on the company. The contractor noted that it has already substantially reduced employment and cut pay because of these economic factors, and it anticipates further employee terminations if the Committee adds the brush to the Procurement List.

The percentage of the contractor's current total sales, taking into account the losses of the past year, which its Government sales of this brush represent is less than half the minimum percentage which the Committee normally considers to be likely to constitute severe adverse impact on a contractor. Even taking into account the contractor's long history of dependence on Government sales of this brush, and the economies of scale in purchasing materials which may be lost because of addition of this brush to the Procurement List, the Committee does not believe that the effects of the addition rise to a level which is likely to be severe adverse impact on this contractor.

The unemployment rate for people with severe disabilities exceeds sixty-five percent, well above that for the groups represented by the contractor's employees. Consequently, the Committee believes that the creation of jobs for people with severe disabilities through addition of the brush to the Procurement List outweighs the possibility of job losses by people who might more easily find replacement work.

The following material pertains to all of the items being added to the Procurement List.

Additions

After consideration of the material presented to it concerning capability of qualified nonprofit agencies to provide the commodities and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46-48c) in connection with the commodities and services proposed for addition to the Procurement List.

Accordingly, the following commodities and services are added to the Procurement List:

Commodity

Stapler, 7520-00-240-5727.

Commodity

Brush, Tooth Brush Style, 7920-00-900-3577.

Commodity

Mop, Twist-Wring and Twist-Wring Head, 7920-01-448-0218, 7920-01-448-0220.

Commodity

Undershirt, Man's, Brown, 8420-01-112-1472, 8420-01-112-1473,8420-01-112-1474, 8420-01-112-1475,8420-01-112-1476, 8420-01-112-1477,8420-01-112-1478, 8420-01-112-1479

(Additional 500,000 shirts/increase from 1,600,000 to 2,100,000).

Commodity

Cleaner, Tobacco Pipe, 9920-00-292-9946.

Service

Grounds Maintenance, Basewide, Fort Bragg, North Carolina.

Service

Janitorial/Custodial, Naval Sea Systems Command (NAVSEA), Buildings 22, 28, 104, 176, 197, 201, 213 and 214,Washington Navy Yard, DC.

Service

Janitorial/Custodial, Naval Reserve Readiness Command, Regional North Central,715 Apollo Avenue,Minneapolis, Minnesota.

Service

Janitorial/Custodial, Missouri Air National Guard, 10800 Lambert International Boulevard,Bridgeton, Missouri.

Service

Janitorial/Custodial, U.S. Marshals Service, Will Rogers World Airport,5900 Air Cargo Road,Oklahoma City, Oklahoma.

Service

Laundry Service, At the following locations: Naval Air Station, Brunswick, Maine; Naval Shipyard, Portsmouth, New Hampshire.

Service

Office Supply Store, at the following locations: Defense Supply Service—Washington, Hoffman Building II, Alexandria, Virginia; Defense Supply Service—Washington,Army Material Command,Alexandria, Virginia; Defense Supply Service—Washington,Pentagon,Rooms 1E700 and 3C157,Arlington, Virginia.

This action does not affect current contracts awarded prior to the effective date of this addition or options that may be exercised under those contracts.

Deletions

I certify that the following action will not have a significant impact on a substantial number of small entities. The major factors considered for this certification were:

1. The action will not result in any additional reporting, recordkeeping or other compliance requirements for small entities.

2. The action will not have a severe economic impact on future contractors for the commodities.

3. The action will result in authorizing small entities to furnish the commodities to the Government.

4. There are no known regulatory alternatives which would accomplish the objectives of the Javits-Wagner-O'Day Act (41 U.S.C. 46-48c) in connection with the commodities deleted from the Procurement List.

After consideration of the relevant matter presented, the Committee has determined that the commodities listed below are no longer suitable for procurement by the Federal Government under 41 U.S.C. 46-48c and 41 CFR 51-2.4.

Accordingly, the following commodities are deleted from the Procurement List:

Commodity

Sheath, Ax, 8465-01-110-2078.

Commodity

Sheath, Brush Hook (Brush), 8465-01-136-4720.

Commodity

Tissue, Facial, 8540-00-900-4891.

Sheryl D. Kennerly,
Director, Information Management.

[FR Doc. 02-1886 Filed 1-24-02; 8:45 am]

BILLING CODE 6353-01-P